Title 3—

The President

Proclamation 8330 of December 19, 2008

To Take Certain Actions Under the African Growth and Opportunity Act and the Generalized System of Preferences

By the President of the United States of America

A Proclamation

1. Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a beneficiary sub-Saharan African country if the President determines that the country meets the eligibility requirements set forth in section 104 of the AGOA (19 U.S.C. 3703) and the eligibility criteria set forth in section 502 of the 1974 Act (19 U.S.C. 2462).

2. Section 104 of the AGOA authorizes the President to designate a country listed in section 107 of the AGOA as an eligible sub-Saharan African country if the President determines that the country meets certain eligibility requirements.

3. Section 112(c) of the AGOA (19 U.S.C. 3721(c)), as added by section 6002(a) of the Africa Investment Incentive Act of 2006 (division D, title VI of Public Law 109-432), provides special rules for certain apparel articles imported from lesser developed beneficiary sub-Saharan African countries.

4. In Proclamation 8157 of June 28, 2007, I designated the Islamic Republic of Mauritania (Mauritania) as an eligible sub-Saharan African country and a beneficiary sub-Saharan African country pursuant to section 104 of the AGOA and section 506A(a)(1) of the 1974 Act and provided that it would be considered a lesser developed beneficiary sub-Saharan African country for purposes of section 112(c) of the AGOA.

5. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act.

6. Pursuant to section 506A(a)(3) of the 1974 Act, I have determined that Mauritania is not making continual progress in meeting the requirements described in section 506A(a)(1) of the 1974 Act. Accordingly, I have decided to terminate the designation of Mauritania as a beneficiary sub-Saharan African country for purposes of section 506A of the 1974 Act, effective on January 1, 2009.

7. Pursuant to sections 501 and 502(a) of the 1974 Act (19 U.S.C. 2461, 2462(a)), the President is authorized to designate countries as beneficiary developing countries for purposes of the Generalized System of Preferences (GSP) program.

8. Pursuant to section 502(a)(1) of the 1974 Act, and having considered the factors set forth in sections 501 and 502(c) (19 U.S.C. 2462(c)), I have determined that the Republic of Kosovo (Kosovo) should be designated as a beneficiary developing country for purposes of the GSP program.

9. Pursuant to section 502 of the 1974 Act, and having considered the factors set forth in sections 501 and 502(c), I have determined that the Republic of Azerbaijan (Azerbaijan) should be designated as a beneficiary developing country for purposes of the GSP program.

10. Section 604 of the 1974 Act (19 U.S.C. 2483), as amended, authorizes the President to embody in the Harmonized Tariff Schedule of the United States (HTS) the substance of relevant provisions of that Act, or other acts affecting import treatment, and of actions taken thereunder.

NOW, THEREFORE, I, GEORGE W. BUSH, President of the United States of America, acting under the authority vested in me by the Constitution and the laws of the United States, including but not limited to section 104 of the AGOA (19 U.S.C. 3703), and title V and section 604 of the 1974 Act (19 U.S.C. 2461-67, 2483), do proclaim that:

(1) The designation of Mauritania as a beneficiary sub-Saharan African country for purposes of section 506A of the 1974 Act is terminated, effective on January 1, 2009.

(2) In order to reflect in the HTS that beginning on January 1, 2009, Mauritania shall no longer be designated as a beneficiary sub-Saharan African country, general note 16(a) to the HTS is modified by deleting “Islamic Republic of Mauritania” from the list of beneficiary sub-Saharan African countries.

(3) Kosovo is designated as a beneficiary developing country for purposes of the GSP program.

(4) In order to reflect this designation in the HTS, general note 4(a) to the HTS is modified by adding in alphabetical order “Kosovo,” effective with respect to articles entered, or withdrawn from warehouse for consumption, on or after February 1, 2009.

(5) Azerbaijan is designated as a beneficiary developing country for purposes of the GSP program.

(6) In order to reflect this designation in the HTS, general note 4(a) to the HTS is modified by adding in alphabetical order “Azerbaijan,” effective with respect to articles entered, or withdrawn from warehouse for consumption, on or after February 1, 2009.

(7) Any provisions of previous proclamations and Executive Orders that are inconsistent with the actions taken in this proclamation are superseded to the extent of such inconsistency.

IN WITNESS WHEREOF, I have hereunto set my hand this nineteenth day of December, in the year of our Lord two thousand eight, and of the Independence of the United States of America the two hundred and thirty-third.

[FR Doc. E8-30765

Filed 12-22-08; 11:15 am]

Billing code 3195-W9-P